DEPARTMENT OF AGRICULTURE

Office of the Secretary

Arizona National Scenic Trail Advisory Council

AGENCY: Forest Service, USDA.

ACTION: Notice of intent to establish an advisory council and call for nominations.

SUMMARY: The Secretary of Agriculture intends to establish the Arizona National Scenic Trail Advisory Council (Council) pursuant to Section 5(d) of the National Trails System Act (Act) (Pub. L. 90-543), as amended through (Pub. L. 111-11) (16 U.S.C. 1241 to 1251). The Council is being established to provide advice and recommendations on matters relating to the Arizona National Scenic Trail (Arizona Trail), including but not limited to, the development and implementation of a comprehensive plan, selection of rights-of-way, standards for the erection and maintenance of markers along with Scenic Trail, and interpretation of the Scenic Trail. Therefore, the Secretary of Agriculture is seeking nominations for individuals to be considered as Council members. The public is invited to submit nominations for membership.

DATES: Written nominations must be received by April 25, 2014. Nominations must contain a completed application packet that includes the nominee's name, resume, and completed form AD-755 (Advisory Committee Membership Background Information). The form AD-755 may be obtained from the Forest Service contact person or from the following Web site: http://www.ocio.usda.gov/forms/doc/AD-755_Master_2012_508%20Ver.pdf. The package must be sent to the address below.

ADDRESSES: Send nominations and applications to Laura White, USDA Forest Service, 300 W. Congress Street, Tuczon, AZ 85701; telephone 520-388-8328; email; laurawhite@fs.fed.us. FOR FURTHER INFORMATION CONTACT: Laura White, U.S. Forest Service, Tucson, AZ 85701; telephone (520)388-8328, email: laurawhite@fs.fed.us.

Individuals who use telecommunications devices or the deaf (TDD) may call the Federal Information Relay Service (FIRS) at 1-800-877-8339 between 8:00 a.m. an 8:00 p.m., Eastern Standard Time, Monday through Friday.

SUPPLEMENTARY INFORMATION:

Background

In accordance with Section 5(d) of the National Trails System Act (Act) (Pub. L. 90-543, as amended through Pub. L. 111-11) (16 U.S.C. 1241 to 1251), and the Federal Advisory Committee Act (FACA), as amended (5 U.S.C. App. 2), the Secretary of Agriculture intends to establish the Arizona National Scenic Trail Advisory Council. The Council will be a statutory advisory council. The Council will operate under the provisions of FACA and will report to the Secretary of Agriculture through the Chief of the Forest Service.

The purpose of the Council is to advise and make recommendations to the Secretary of Agriculture, through the Chief of the Forest Service, on matters relating to the Arizona National Scenic Trail in accordance with Section 5(d) of the Act, which states,

The Secretary charged with the administration of each respective trail shall, within one year of the date of the addition of any national scenic or national historic trail to the system, . . . establish an advisory council for each such trail, each of which councils shall expire ten years from the date of its establishment, . . . If the appropriate Secretary is unable to establish such an advisory council because of the lack of adequate public interest, the Secretary shall so advise the appropriate committees of the Congress. The appropriate Secretary shall consult with such council from time to time with respect to matters relating to the trail, including the selection of rights-of-way, standards for the erection and maintenance of markers along the trail, and the administration of the trail . . .

Advisory Council Organization

The Council will be comprised of not more than 13 members. The members appointed to the Council will provide a fairly balanced and broad representation of all public interests, including, but not limited to the following points of view: Federal Department or Independent Agency.

Members shall be appointed by the Secretary of Agriculture as follows:

1. The Regional Forester of the Southwestern Region, Forest Service or a designee;

2. The State Director of the Arizona State Office, Bureau of Land Management (BLM) or a designee;

3. The Regional Director of the Intermountain Region—National Park Service or a designee;

4. A representative of the State of Arizona (selected from recommendations by the Governor).

Additional Council members will include:

5. At least one representative from Arizona State Parks;

6. At least one representative from County or Municipal Parks and Recreation;

7. At least one representative for Tribes;

8. At least two representatives from the National Scenic Trail and non-motorized trail users organizations;

9. At least one representative from Conservation organizations;

10. At least one representative from Gateway Communities;

11. At least one representative from the Ranching industry; and

12. At least one representative from Private landholders.

No individual who is currently registered as a Federal lobbyist is eligible to serve as a member of the Council.

The Council will meet at least once annually or as often as necessary and at such times as designated by the Designated Federal Official (DFO).

The appointment of members to the Council will be made by the Secretary of Agriculture. Any individual or organization may nominate one or more qualified persons to serve on the Arizona National Scenic Trail Advisory Council. Individuals may also nominate themselves. To be considered for membership, nominees must submit:

1. Resume describing qualification for membership to the Council;

2. Cover letter with a rationale for serving on the Council and what you can contribute; and

3. Complete form AD-755, Advisory Committee Membership Background Information.

Letters of recommendations are welcome. All nominations will be vetted by USDA. The Secretary of Agriculture will appoint council members to the Arizona National Scenic Trail Advisory Council from the list of qualified applicants.

The non-Federal and non-Independent Agency members of the Council will serve without compensation, but may be reimbursed for travel expenses while performing duties on behalf of the Council, subject to approval by the DFO.

Equal opportunity practices in accordance with U. S. Department of Agriculture (USDA) policies shall be followed in all appointments to the committee. To help ensure that recommendations of the committee have taken into account the needs of the diverse groups served by USDA, membership shall include to the extent possible, individuals with demonstrated ability to represent women, men, racial and ethnic groups, and persons with disabilities.

Dated: February 11, 2014.
Gregory Parham,
Acting Assistant Secretary for Administration.

[FR Doc. 2014-03793 Filed 2-21-14; 8:45 am]

BILLING CODE 3410-11-P